DEPARTMENT OF DEFENSE

Department of the Navy

Notice of Intent To Grant Exclusive Patent License; PNI Corporation

AGENCY: Department of the Navy, DoD.

ACTION: Notice.

SUMMARY: The Department of the Navy hereby gives notice of its intent to grant to PNI Sensor Corporation a revocable, nonassignable, exclusive license to practice the Government-owned inventions described in U.S. Patent No. 6,820,025: Method and Apparatus for Motion Tracking of an Articulated Rigid Body, Navy Case No. 82,816.//U.S. Patent No. 7,089,148: Method and Apparatus for Motion Tracking of an Articulated Rigid Body, Navy Case No. 96,580.// and any continuations, divisionals or re-issues thereof in the field of use of consumer electronics in the United States.

DATES: Anyone wishing to object to the grant of this license must file written objections along with supporting evidence, if any, not later than February 7, 2011.

ADDRESSES: Written objections are to be filed with the Naval Postgraduate School, Code 41, 699 Dyer Road, Bldg. HA, Room 222, Monterey, CA 93943.

FOR FURTHER INFORMATION CONTACT: Danielle Kuska, Director, Research and Sponsored Programs Office, NPS Code 41, 699 Dyer Road, Bldg. HA, Room 222, Monterey, CA 93943, telephone 831-656-2099. Due to U.S. Postal delays, please fax 831-656-2038, e-mail: dkuska@nps.edu or use courier delivery to expedite response.

Authority: 35 U.S.C. 207, 37 CFR Part 404.

Dated: January 14, 2011.
H.E. Higgins,
Lieutenant, Office of the Judge Advocate General, U.S. Navy, Alternate Federal Register Liaison Officer.

[FR Doc. 2011-1220 Filed 1-20-11; 8:45 am]

BILLING CODE 3810-FF-P